DEPARTMENT OF AGRICULTURE

Animal and Plant Health Inspection Service

9 CFR Parts 93, 98, and 130

[Docket No. 98-013-2]

Hawaii Animal Import Center

AGENCY: Animal and Plant Health Inspection Service, USDA.

ACTION: Final rule.

SUMMARY: We are amending the regulations by removing Honolulu, HI, from the lists of animal import centers and ports of entry that provide U.S. Department of Agriculture quarantine facilities for animals, birds, and poultry imported into the United States. We are also amending the regulations by adding Honolulu, HI, as a limited port for the importation of animals, birds, poultry, poultry products, and animal germ plasm that do not require U.S. Department of Agriculture quarantine facilities. These actions will update the regulations to reflect the June 1997 closure of the Hawaii Animal Import Center.

EFFECTIVE DATE: July 20, 2000.

FOR FURTHER INFORMATION CONTACT: Dr. Gary Colgrove, Chief Staff Veterinarian, Import/Export Animals, National Center for Import and Export, VS, APHIS, 4700 River Road Unit 39, Riverdale, MD 20737-1231; (301) 734-3276.

SUPPLEMENTARY INFORMATION:

Background

The regulations in 9 CFR parts 93 and 98 restrict the importation of specified animals and animal products into the United States to prevent the introduction of communicable diseases of livestock and poultry. The regulations designate animal import centers and ports of entry for the importation of certain animals, birds, poultry, poultry products, and animal germ plasm that require inspection or quarantine services.

The regulations in 9 CFR part 130 set forth the user fees that are assessed to reimburse the Animal and Plant Health Inspection Service for the cost of import-and export-related services provided at animal import centers and ports of entry.

On March 9, 2000, we published in the Federal Register (65 FR 12486-12488, Docket No. 98-013-1) a proposal to amend the regulations by removing Honolulu, HI, from the lists of animal import centers and ports of entry that provide quarantine services. In addition, we proposed to amend part 130 by removing all references to the animal import center in Honolulu, HI. We also proposed to amend the regulations in part 93 by adding Honolulu, HI, as a limited port for the importation of animals, birds, poultry, and poultry products that do not require U.S. Department of Agriculture (USDA) quarantine facilities. We further proposed to amend the regulations in part 98 by adding Honolulu, HI, as a limited port for the importation of animal semen. (Section 98.6 provides that embryos may be imported only at a port of entry listed in § 93.303 for horses, § 93.403 for ruminants, and § 93.503 for swine. Under the proposal, embryos could be imported through Honolulu, HI, because it would be listed in those sections as a limited port.) We also proposed minor, nonsubstantive changes to part 93.

We solicited comments concerning our proposal for 60 days ending May 8, 2000. We did not receive any comments. Therefore, for the reasons given in the proposed rule, we are adopting the proposed rule as a final rule, without change.

Miscellaneous

In § 93.308, paragraph (a)(2) lists the regions that we consider affected with African horse sickness as: All the regions on the continent of Africa, except Morocco; Oman; Saudi Arabia; and the Yemen Arab Republic. For clarity, we are rewording the list to read: Oman, Saudi Arabia, the Yemen Arab Republic, and all the regions on the continent of Africa except Morocco.

Executive Order 12866 and Regulatory Flexibility Act

This rule has been reviewed under Executive Order 12866. For this action, the Office of Management and Budget has waived its review process required by Executive Order 12866.

This rule will amend the regulations in 9 CFR parts 93, 98, and 130 by removing Honolulu, HI, from the lists of animal import centers and ports of entry that provide USDA quarantine facilities for animals, birds, and poultry imported into the United States. These changes are necessary to reflect the closure of the facility known as the Hawaii Animal Import Center (HAIC). However, we will add Honolulu, HI, as a limited port for the importation of animals, birds, poultry, poultry products, and animal germ plasm that do not require USDA quarantine facilities.

The removal of Honolulu, HI, from the lists of animal import centers is primarily an editorial change following the previously announced closure of the HAIC. That closure primarily affected U.S. importers of animals, birds, and poultry that required quarantine services. After HAIC closed, those importers could no longer import these items into the United States through Honolulu, HI. However, prior to the closure of the HAIC, the number of animals, birds, and poultry imported through and quarantined at the port of Honolulu, HI, was low compared to the number imported through other animal import centers located in Miami, FL, and Newburgh, NY. For instance, in fiscal year 1997, the HAIC provided inspection and quarantine services for 40 animals and birds. However, in fiscal year 1997, the animal import center in Miami, FL, provided inspection and quarantine services for over 1,500 animals and birds; and the animal import center located in Newburgh, NY, provided services for over 4,000 animals from January 1, 1997, to December 31, 1997.

Based on the availability of the remaining animal import centers and ports of entry and the low level of use prior to closure of the HAIC, we believe that removing Honolulu, HI, from the lists of animal import centers and ports of entry that provide USDA quarantine facilities for animals, birds, and poultry imported into the United States will not have a significant economic effect on importers. In addition, our designation of Honolulu, HI, as a limited port for the importation of animals, birds, poultry, poultry products, and animal germ plasm that do not require USDA quarantine facilities will continue to provide a port of entry for U.S. importers of certain animals, birds, poultry, poultry products, and animal germ plasm.

Under these circumstances, the Administrator of the Animal and Plant Health Inspection Service has determined that this action will not have a significant economic impact on a substantial number of small entities.

Executive Order 12988

This final rule has been reviewed under Executive Order 12988, Civil Justice Reform. This rule: (1) Preempts all State and local laws and regulations that are inconsistent with this rule; (2) has no retroactive effect; and (3) does not require administrative proceedings before parties may file suit in court challenging this rule.

Paperwork Reduction Act

This rule contains no information collection or recordkeeping requirements under the Paperwork Reduction Act of 1995 (44 U.S.C. 3501 et seq.).

List of Subjects

9 CFR Part 93

Animal diseases, Imports, Livestock, Poultry and poultry products, Quarantine, Reporting and recordkeeping requirements.

9 CFR Part 98

Animal diseases and Imports.

9 CFR Part 130

Animals, Birds, Diagnostic reagents, Exports, Imports, Poultry and poultry products, Quarantine, Reporting and recordkeeping requirements, Tests.

Accordingly, we are amending 9 CFR parts 93, 98, and 130 as follows:

PART 93—IMPORTATION OF CERTAIN ANIMALS, BIRDS, AND POULTRY, AND CERTAIN ANIMAL, BIRD, AND POULTRY PRODUCTS; REQUIREMENTS FOR MEANS OF CONVEYANCE AND SHIPPING CONTAINERS

1. The authority citation for part 93 continues to read as follows:

Authority: 7 U.S.C. 1622; 19 U.S.C. 1306; 21 U.S.C. 102-105, 111, 114a, 134a, 134b, 134c, 134d, 134f, 136, and 136a; 31 U.S.C. 9701; 7 CFR 2.22, 2.80, and 371.2(d).

§ 93.102 [Amended]

2. In § 93.102, paragraph (a) is amended by removing the words “Honolulu, HI;” and paragraph (d) is amended by adding the words “Honolulu, HI;” immediately after the words “Atlanta, GA;”.

§ 93.103 [Amended]

3. In § 93.103, paragraph (a)(4)(ii) is removed, and paragraph (a)(4)(iii) is redesignated as paragraph (a)(4)(ii) and the last two sentences are removed.

§ 93.105 [Amended]

4. In § 93.105, paragraph (c)(2) is amended by removing the words “Miami, FL; and Honolulu, HI” and by adding the words “and Miami, FL” in their place.

§ 93.106 [Amended]

5. Section 93.106 is amended as follows:

a. In paragraph (a), by removing the words “paragraph (c)(7)” and by adding the words “paragraph (c)(5)” in their place.

b. In paragraph (b)(1), by removing the words “the Hawaii Animal Import Center at Honolulu, HI, when the port of entry is Honolulu, HI;”.

§ 93.107 [Amended]

6. In § 93.107, paragraph (b)(2) is amended by removing the words “Honolulu, HI;”.

§ 93.203 [Amended]

7. In § 93.203, paragraph (a) is amended by removing the words “Honolulu, Hawaii;” and paragraph (d) is amended by adding the words “Honolulu, Hawaii;” immediately after the words “Atlanta, Georgia;”.

§ 93.303 [Amended]

8. In § 93.303, paragraph (a) is amended by removing the words “Honolulu, Hawaii;” and paragraph (d) is amended by adding the words “Honolulu, Hawaii,” immediately after the words “Atlanta, Georgia;”.

9. In § 93.308, the last sentence in paragraph (a)(2) is amended as follows:

§ 93.308 Quarantine requirements.

(a) * * *

(2) * * * APHIS considers the following regions to be affected with African horse sickness: Oman, Saudi Arabia, the Yemen Arab Republic, and all the regions on the continent of Africa except Morocco.

* * * * *

§ 93.403 [Amended]

10. In § 93.403, paragraph (a) is amended by removing the words “Honolulu, Hawaii;” and paragraph (e) is amended by adding the words “Honolulu, Hawaii,” immediately after the words “Atlanta, Georgia;”.

§ 93.404 [Amended]

11. In § 93.404, paragraph (a)(2) is amended by removing the words “, except as provided in § 93.430”.

§ 93.503 [Amended]

12. In § 93.503, paragraph (a) is amended by removing the words “Honolulu, Hawaii;” and paragraph (e) is amended by adding the words “Honolulu, Hawaii;” immediately after the words “Atlanta, Georgia;”.

§ 93.703 [Amended]

13. In § 93.703, paragraph (a)(1) is amended by removing the words “Honolulu, HI;”.

§ 93.805 [Amended]

14. In § 93.805, paragraph (a)(1) is amended by removing the words “Honolulu, Hawaii;”.

PART 98—IMPORTATION OF CERTAIN ANIMAL EMBRYOS AND ANIMAL SEMEN

15. The authority citation for part 98 continues to read as follows:

Authority: 7 U.S.C. 1622; 19 U.S.C. 1306; 21 U.S.C. 103-105, 111, 134a, 134b, 134c, 134d, 134f, 136 and 136a; 31 U.S.C. 9701; 7 CFR 2.22, 2.80, and 371.2(d).

§ 98.33 [Amended]

16. In § 98.33, paragraph (a) is amended by removing the words “Honolulu, Hawaii;” and paragraph (d) is amended by adding the words “Honolulu, Hawaii;” immediately after “Atlanta, Georgia;”.

PART 130—USER FEES

17. The authority citation for part 130 continues to read as follows:

Authority: 5 U.S.C. 5542; 7 U.S.C. 1622; 19 U.S.C. 1306; 21 U.S.C. 102-105, 111, 114, 114a, 134a, 134c, 134d, 134f, 136, and 136a; 31 U.S.C. 3701, 3716, 3717, 3719, and 3720A; 7 CFR 2.22, 2.80, and 371.2(d).

§ 130.1 [Amended]

18. Section 130.1 is amended as follows:

a. In the definition of Animal Import Center, by removing the words “Newburgh, New York; Miami, Florida; and Honolulu, Hawaii” and adding the words “Newburgh, New York, and Miami, Florida” in their place.

b. In the definition of Nonstandard care and handling, by removing from footnote 2 the words “7:30 a.m. to 11:30 a.m., Honolulu, HI;”.

Done in Washington, DC, this 14th day of June 2000.
Richard L. Dunkle,
Acting Administrator, Animal and Plant Health Inspection Service.

[FR Doc. 00-15469 Filed 6-19-00; 8:45 am]

BILLING CODE 3410-34-U